DEPARTMENT OF COMMERCE

International Trade Administration

[A-201-834]

Purified Carboxymethylcellulose from Mexico: Extension of Time Limit for Final Results of Antidumping Duty Administrative Review

AGENCY: Import Administration, International Trade Administration, Department of Commerce.

FOR FURTHER INFORMATION CONTACT: Mark Flessner or Robert James, AD/CVD Enforcement Office 7, Import Administration, International Trade Administration, U.S. Department of Commerce, 14th Street and Constitution Avenue, NW, Washington DC 20230; telephone: (202) 482-6312 and (202) 482-0649, respectively.

SUPPLEMENTARY INFORMATION:

Background

On April 10, 2009, the Department of Commerce (“Department”) published the preliminary results of administrative review of purified carboxymethylcellulose from Mexico for the July 1, 2007, through June 30, 2008, period of review. See Purified Carboxymethylcellulose From Mexico: Notice of Preliminary Results of Antidumping Duty Administrative Review, 74 FR 16359 (April 10, 2009). The final results for this administrative review are currently due no later than August 8, 2009.

Extension of Time Limits for Preliminary Results

Section 751(a)(3)(A) of the Tariff Act of 1930, as amended (“the Act”), requires the Department to complete the final results of an administrative review within 120 days after the date on which the preliminary results are published. However, if it is not practicable to complete the review within these time periods, section 751(a)(3)(A) of the Act allows the Department to extend the 120 day time period for the final results to 180 days.

The Department has determined it is not practicable to complete this review within the statutory time limit because of significant issues that require additional time to evaluate. These include questions involving entry dates and entered values, necessitating a post-preliminary supplemental questionnaire. Accordingly, the Department is extending the time limit for completion of the final results of this administrative review until no later than October 7, 2009, which is 180 days after the date on which the preliminary results of review were published.

This notice is issued and published in accordance with sections 751(a)(3)(A) and 777(i)(1) of the Act.

Dated: July 30, 2009.
John M. Andersen,
Acting Deputy Assistant Secretary for Antidumping and Countervailing Duty Operations.

[FR Doc. E9-18727 Filed 8-4-09; 8:45 am]

BILLING CODE 3510-DS-S